DEPARTMENT OF ENERGY

Federal Energy Regulatory Commission

[Docket No. RP03-223-000]

Williston Basin Interstate Pipeline Company; Notice of Fuel Reimbursement Charge Filing

January 8, 2003.

Take notice that on December 31, 2002, Williston Basin Interstate Pipeline Company (Williston Basin), tendered for filing as part of its FERC Gas Tariff, Second Revised Volume No. 1 and Original Volume No. 2, the following revised tariff sheets to become effective February 1, 2003:

Second Revised Volume No. 1

Forty-Ninth Revised Sheet No. 15

Twenty-Fifth Revised Sheet No. 15A

Forty-Ninth Revised Sheet No. 16

Twenty-Fifth Revised Sheet No. 16A

Forty-Seventh Revised Sheet No. 18

Twenty-Fifth Revised Sheet No. 18A

Twenty-Fifth Revised Sheet No. 19

Twenty-Fifth Revised Sheet No. 20

Original Volume No. 2

Ninety-Second Revised Sheet No. 11B

Williston Basin states that the revised tariff sheets reflect revisions to the fuel reimbursement charge and percentage components of the Company's relevant gathering, transportation and storage rates, pursuant to Williston Basin's fuel reimbursement adjustment provision contained in section 38 of the general terms and conditions of its FERC Gas Tariff, Second Revised Volume No. 1.

Any person desiring to be heard or to protest said filing should file a motion to intervene or a protest with the Federal Energy Regulatory Commission, 888 First Street, NE., Washington, DC 20426, in accordance with sections 385.214 or 385.211 of the Commission's rules and regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: January 15, 2003.

Magalie R. Salas,
Secretary.

[FR Doc. 03-748 Filed 1-13-03; 8:45 am]

BILLING CODE 6717-01-P